SMALL BUSINESS ADMINISTRATION

[Declaration of Disaster #3421]

State of California

Los Angeles County and the contiguous counties of Kern, Orange, San Bernardino, and Ventura in the State of California constitute a disaster area as a result of damages caused by an explosion and fire that occurred May 24, 2002 at the Park Encino apartment complex in Encino. Applications for loans for physical damage as a result of this disaster may be filed until the close of business on August 12, 2002 and for economic injury until the close of business on March 13, 2003 at the address listed below or other locally announced locations: U.S. Small Business Administration, Disaster Area 4 Office, P. O. Box 13795, Sacramento, CA 95853-4795.

The interest rates are:

| Percent
For Physical Damage:
Homeowners with credit available elsewhere | 6.750
Homeowners without credit available elsewhere | 3.375
Businesses with credit available elsewhere | 7.000
Businesses and non-profit organizations without credit available elsewhere | 3.500
Others (Including non-profit organizations) with credit available elsewhere | 6.375
For Economic Injury
Businesses and small agricultural cooperatives without credit available elsewhere | 3.500

The number assigned to this disaster for physical damage is 342105 and for economic damage is 9Q1200.

(Catalog of Federal Domestic Assistance Program Nos. 59002 and 59008)

Dated: June 13, 2002.
Hector V. Barreto,
Administrator.

[FR Doc. 02-15554 Filed 6-19-02; 8:45 am]

BILLING CODE 8025-01-P